DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Site Visits With Grantees Integrating HIV Primary Care, Substance Abuse, and Behavioral Health Services—NEW

The Substance Abuse and Mental Health Services Administration (SAMHSA) is requesting approval to conduct in-person Site Visit Interviews with Minority AIDS Initiative—Targeted Capacity Expansion (MAI-TCE) Grantees Integrating HIV Primary Care, Substance Abuse, and Behavioral Health Services. This is a new project request targeting the collection of programmatic level data (e.g., services provision, program administration, consumer involvement, evaluation planning, organizational capacity) through one-on-one and group interviews and site assessment surveys with grantee personnel.

The goals of the MAI-TCE project are to facilitate the development and expansion of culturally competent and effective integrated behavioral health and primary care, which include HIV services and medical treatment within 11 of the 12 Metropolitan Statistical Areas (MSAs) and Metropolitan Divisions (MDs) most heavily impacted by HIV/AIDS. The program also supports the integration of behavioral health services (i.e., prevention, treatment, and substance abuse) into the CDC's Enhanced Comprehensive HIV Prevention Plans (ECHPP). Interviews conducted with MAI-TCE grantees during site visits are an integral part of efforts to evaluate: (1) The effectiveness of program implementation across the grantee sites; (2) grantee efforts to integrate behavioral health, substance abuse and HIV care; (3) the variety of program models in use across the grantee sites; and, (4) grantee efforts to engage and successfully reach their target populations.

SAMHSA will conduct a total of two in-person site visits with each of the 11 MAI-TCE program grantees, with surveys being administered prior to each site visit.

SAMHSA will conduct interviews with grantee staff who will provide information on their program's integration of primary care and behavioral health services. While participating in the evaluation is a condition of the grantees' funding, participating in the interview and survey process is voluntary. Both instruments are designed to collect information about: specific program components; HIV testing integration challenges, successes, and lessons learned; HIV care and evidence-based behavioral health services for their specific populations of focus; and engaging consumers in the Behavioral Health and Primary Care Network Committee and other aspects of the project, including how cultural competence is operationalized.

Below is the table of the estimated total burden hours:

Exhibit 1—Estimate of Reporting Burden: One Site Visit Round
Data collection tool | Number of respondents | Responses per respondent | Total number of responses | Hour per response | Total burden hours
Interview Guide | 132 | 1 | 132 | 2.5 | 330
Assessment Form | 55 | 1 | 55 | .3 | 18.3
TOTAL | 132* | 2 | 187 | 2.8 | 348.3
Note*: The 55 respondents identified for the self-assessment are included in the 132 overall participants listed for the site visit protocol.

Written comments and recommendations concerning the proposed information collection should be sent by January 18, 2013 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2012-30465 Filed 12-18-12; 8:45 am]

BILLING CODE 4162-20-P